DEPARTMENT OF THE INTERIOR

Minerals Management Service

Environmental Documents Prepared for Proposed Oil and Gas Operations on the Gulf of Mexico Outer Continental Shelf (OCS)

AGENCY: Minerals Management Service, Interior.

ACTION: Notice of the availability of environmental documents prepared for OCS mineral proposals on the Gulf of Mexico OCS.

SUMMARY: Minerals Management Service (MMS), in accordance with Federal regulations that implement the National Environmental Policy Act (NEPA), announces the availability of NEPA-related Site-Specific Environmental Assessments (SEA) and Findings of No Significant Impact (FONSI), prepared by MMS for the following oil and gas activities proposed on the Gulf of Mexico OCS.

FOR FURTHER INFORMATION CONTACT: Public Information Unit, Information Services Section at the number below. Minerals Management Service, Gulf of Mexico OCS Region, Attention: Public Information Office (MS 5034), 1201 Elmwood Park Boulevard, Room 114, New Orleans, Louisiana 70123-2394, or by calling 1-800-200-GULF.

SUPPLEMENTARY INFORMATION: MMS prepares SEAs and FONSIs for proposals that relate to exploration for and the development/production of oil and gas resources on the Gulf of Mexico OCS. These SEAs examine the potential environmental effects of activities described in the proposals and present MMS conclusions regarding the significance of those effects. Environmental Assessments are used as a basis for determining whether or not approval of the proposals constitutes major Federal actions that significantly affect the quality of the human environment in the sense of NEPA section 102(2)(C). A FONSI is prepared in those instances where MMS finds that approval will not result in significant effects on the quality of the human environment. The FONSI briefly presents the basis for that finding and includes a summary or copy of the SEA.

This notice constitutes the public notice of availability of environmental documents required under the NEPA regulations.

This listing includes all proposals for which the Gulf of Mexico OCS region prepared a FONSI in the period subsequent to publication of the preceding notice dated August 13, 2002.

Activity/operator | Location | Date
Murphy Exploration & Production Company, Supplemental Development Operations Coordination Plan, SEA No. S-5940 | South Timbalier Area, Block 86, Lease OCS 0605, located approximately 20 miles south of Lafourche Parish, Louisiana | 12/17/02
Shell Offshore, Inc., Initial Exploration Plan, SEA No. N-7565 | Desoto Canyon Area, Blocks 622 and 666, Leases OCS-G 10467 and OCS-G 10468 respectively, located 99 miles from the nearest Louisiana coastline, 127 miles from the Alabama coastline, and 136 miles from the Florida coastline | 01/08/03
Global Geo Services ASA, Geological & Geophysical Exploration Plan, SEA No. M03-01 | Located in the eastern Gulf of Mexico south of Apalachicola, Florida | 01/27/03
Ridgelake Energy, Inc., Initial Development Operations Coordination Plan and Lease-Term Pipeline, SEA Nos. N-7665 and P-14094 | High Island Area, Block A-352, Lease OCS-G 24424, located 114.5 miles from the nearest Texas coastline | 03/14/03
Shell Offshore, Inc., Initial Exploration Plan, SEA No. N-7621 | Desoto Canyon Area, Block 269, Lease OCS-G 23502, located 86 miles from the Louisiana shoreline, 127 miles from the Alabama shoreline, and 136 miles from the Florida shoreline | 01/08/03
Ocean Energy, Inc., Initial Exploration Plan, SEA No. N-7622 | DeSoto Canyon Area, Blocks 180 and 224, Leases OCS-G 23493 and OCS-G 23497, located 82 miles from the Louisiana shoreline, 102 miles from the Alabama shoreline, and 108 miles from the Florida shoreline, respectively | 01/15/03
Conoco, Inc., Initial Development Operation Coordination Plan, PEA No. N-7506 | Garden Banks Area, Blocks 783 and 784, Lease OCS-G 11573 and 11574, respectively, located approximately 150 miles from the nearest Louisiana shoreline | 02/28/03
J.M. Huber Corporation, Structure Activity, SEA ES/SR Nos. 03-001, 03-002, 03-003 and 03-004 | South Timbalier Area, Block 21, Lease OSC 00263, located 4 miles south of Lafourche Parish, Louisiana, and 6 miles southwest of Removal Fourchon, Louisiana | 01/09/03
Pioneer Natural Resources USA, Inc., Structure Removal Activity, SEA ES/SR No. 03-007 | Matagorda Island Area, Block 624, Lease OCS-G 03306, located 25 miles southeast of Calhoun County, Texas, and 280 miles southwest of Intracoastal City, Louisiana | 01/22/03
Energy Resource Technology, Inc., Structure Removal Activity, SEA ES/SR Nos. 03-008 and 03-009 | Matagorda Island Area, Block 705, Lease OCS-G 09001, and South Timbalier (South Addition) Area, Block 252, Lease OCS-G 10842, located 30 miles southeast of Calhoun County, Texas, and 195 miles southwest of Sabine Pass, Texas; located 50 miles south of Lafourche Parish, Louisiana, and 105 miles southeast of Morgan City, Louisiana, respectively | 01/29/03
Forest Oil Corporation, Structure Removal Activity, SEA ES/SR No. 03-012 | High Island Area, Block A-20, Lease OCS-G 06178, located 34 miles south-southeast of Galveston County, Texas, and 53 miles south-southwest Sabine Pass, Texas | 02/06/03
Walter Gas & Oil Corporation, Structure Removal Activity, SEA ES/SR No. 3-013 | South Pelto Area, Block 6, Lease OCS-G 09651, located 8 miles from the nearest Louisiana shoreline | 03/11/03
Walter Gas & Oil Corporation, Structure Removal Activity, SEA ES/SR No. 3-014 | West Delta Area, Block 35, Lease OCS-G 13641, located 10 miles from the nearest Louisiana shoreline | 03/13/03
Forest Oil Corporation, Structure Removal Activity, SEA ES/SR No. 03-015 | Chandeleur Area, Block 17, Lease OCS-G 04493, located 7 miles east of Chandeleur Islands, Louisiana, and 100 miles northeast of Fourchon, Louisiana | 02/05/03
Forest Oil Corporation, Structure Removal Activity, SEA ES/SR Nos. 03-016 and 01-091A | West Cameron Area (South Addition), Block 576, Lease OCS-G 02019, High Island Area (East Addition South Extension), Block A286, Lease OCS-G 03486, located l00 miles west-southwest of Cameron Parish, Louisiana, and 114 miles south-southeast of Sabine Pass, Texas; located 89 miles southeast of Galveston County, Texas, and 98 miles south of Sabine Pass, Texas, respectively | 02/12/03
W & T Offshore Incorporated, Structure Removal Activity, SEA ES/SR No. 03-017 | Eugene Island Area, Block 90, Lease OCS-00229, located 23 miles south-southeast of Iberia Parish, Louisiana, and 54 miles southeast of Intracoastal City, Louisiana | 02/14/03
Stone Energy Corporation, Structure Removal Activity, SEA ES/SR No. 03-018 | Eugene Island Area, Block 65, Lease OCS-G 16343, located 15 miles southwest of St. Mary Parish, Louisiana, and 50 miles southeast of Intracoastal City, Louisiana | 02/13/03
Remington Oil and Gas Corporation, Structure Removal Activity, SEA ES/SR No. 03-019 | East Cameron Area (South Addition), Block 305, Lease OCS-G 16270, located 89 miles south-southwest of Vermilion Parish, Louisiana, and 111 miles southeast of Cameron, Louisiana | 02/12/03
Ocean Energy, Inc., Structure Removal Activity, SEA ES/SR No. 03-020 | South Marsh Island Area (South Addition), Block 80, Lease OCS-G 14439, located 60 miles southwest of St. Mary Parish, Louisiana, and 90 miles southwest of Morgan City, Louisiana | 02/14/03
El Paso Production, Inc., Structure Removal Activity, SEA ES/SR Nos. 03-021 and 03-022 | South Marsh Island Area, Block 229, Lease OCS-G 00310, and Block 245, Lease OCS-G 16336, located 10 miles southwest of St. Mary Parish, Louisiana, and 85 miles east-southeast of Cameron, Louisiana, located 20 miles southwest of St. Mary Parish, Louisiana, and 85 miles east-southeast of Cameron, Louisiana, respectively | 02/26/03
Ocean Energy, Inc., Structure Removal Activity, SEA ES/SR Nos. 03-023 and 95-071A | Eugene Island Area, Block 119, Lease OCS-G 00049, and Block 129, Lease OCS-G 00054, located 25 miles southwest of Terrebonne Parish, Louisiana, and 55 miles southwest of Morgan City, Louisiana, located 30 miles southwest of Terrebonne Parish, Louisiana, and 60 miles southwest of Morgan City, Louisiana, respectively | 02/26/03
Samedan Oil Corporation, Structure Removal Activity, SEA ES/SR No. 03-024 | Ship Shoal Area, Block 80, Lease OCS-G 05537, located 25 miles southwest of Terrebonne Parish, Louisiana, and 80 miles southeast of Intracoastal City, Louisiana | 03/18/03
Ocean Energy, Inc., Structure Removal Activity, SEA ES/SR Nos. 03-025 through 03-029, and 95-21A | Eugene Island Area, Block 119, OCS-G 00049 and OCS-G 00797, located 18 to 22 miles southwest of Terrebonne Parish, Louisiana, and 50 to 55 miles south-southwest of Morgan City, Louisiana | 03/03/03
Ocean Energy, Inc., Structure Removal Activity, SEA ES/SR No. 03-030 | Eugene Island Area, Block 105, OCS-G 00797, located 20 miles from the nearest Louisiana shoreline | 03/18/03
Ocean Energy, Inc., Structure Removal Activity, SEA ES/SR Nos. 03-031 and 03-032 | Eugene Island Area, Block 126, OCS-G 00052, and Brazos Area, Block 399, OCS-G 07218, located 25 miles from the nearest Louisiana shoreline, and located 15 miles from the nearest Texas shoreline, respectively | 03/18/03
Exxon Mobil Production Company, Structure Removal Activity, SEA ES/SR No. 03-065 | South Timbalier (South) Area, Block 55, Lease OCS-G 00421, located 15 miles from the nearest Louisiana shoreline | 03/18/03
Exxon Mobil Production Company, Structure Removal Activity, SEA ES/SR No. 03-066 | West Delta Area, Block 32, OCS-G 00367, located 10 miles from the nearest Louisiana shoreline | 03/26/03
GX Technology Corporation, Geological & Geophysical Exploration for Mineral Resources, Sea No. L03-08, for China Offshore Geophysical Corporation International | Located in the central Gulf of Mexico south of Cocodrie, Louisiana | 03/18/03
C & C Technologies, Inc., Geological & Geophysical Exploration Plan, SEA No. L03-09, for C & C Technologies, Inc | Located in the central Gulf of Mexico southwest of Fourchon, Louisiana | 03/20/03
Chevron U.S.A. Production Company, Structure Removal Activity, SEA ES/SR No. 03-079 | Ship Shoal Area, Block 108, Lease OCS-G 00814, located 20 miles from the nearest Louisiana shoreline | 03/26/03
Newfield Exploration Company, Structure Removal Activity, SEA ES/SR No. 03-085 | Ship Shoal (South) Area, Block 111, Lease OCS-G 06739, located 12 miles northwest of Plaquemines Parish, Louisiana, and 163 miles southeast of Intracoastal City, Louisiana | 03/26/03
Newfield Exploration Company, Structure Removal Activity, SEA ES/SR No. 03-086 | Eugene Island Area, Block 324, Lease OCS-G 05516, located 65 miles from the nearest Louisiana shoreline | 03/26/03
Exxon Mobil Production Company, Structure Removal Activity, SEA ES/SR Nos. 03-033 through 03-064 | Main Pass Area, Block, 7, Lease OCS-G 01366; Blocks 18-19, Lease OCS-G 01963; Block 92, Leases OCS-G 01366 and 01500; Block 103, Lease OCS-G 01627; located approximately 25 miles from the nearest Louisiana shoreline | 03/28/03
Shell Offshore, Inc., Structure Removal Activity, SEA ES/SR No. 03-084 | South Timbalier (South) Area, Block 239, Lease OCS-G 22754, located 63 miles south-southeast of Cameron, Louisiana, and 56 miles south-southwest of Vermilion Parish, Louisiana | 03/28/03

Persons interested in reviewing environmental documents for the proposals listed above or obtaining information about SEAs and FONSIs prepared for activities on the Gulf of Mexico OCS are encouraged to contact MMS at the address or telephone listed in the FOR FURTHER INFORMATION section.

Dated: April 7, 2003.
Chris C. Oynes,
Regional Director, Gulf of Mexico OCS Region.

[FR Doc. 03-13999 Filed 6-3-03; 8:45 am]

BILLING CODE 4310-MR-P